DEPARTMENT OF TRANSPORTATION

Federal Aviation Administration

14 CFR Part 73

[Docket No. FAA-2008-1261; Airspace Docket No. 06-ASO-18]

Amendment and Establishment of Restricted Areas and Other Special Use Airspace, Avon Park Air Force Range, FL

AGENCY: Federal Aviation Administration (FAA), DOT.

ACTION: Final rule, correction.

SUMMARY: This action makes minor corrections to the geographic coordinates of restricted areas R-2901B, R-2910J, R-2901K, R-2901L and R-2901N, Avon Park, FL, in a final rule published in the Federal Register on Monday, May 24, 2010. The National Aeronautical Navigation Services Office requested these adjustments be made to better align the restricted areas.

DATES: Effective date 0901 UTC, July 29, 2010. The Director of the Federal Register approves this incorporation by reference action under 1 CFR part 51, subject to the annual revision of FAA Order 7400.9 and publication of conforming amendments.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

History

On May 24, 2010, a final rule was published in the Federal Register (75 FR 28752), Airspace Docket No. 06-ASO-18, to modify the special use airspace at the Avon Park Air Force Range in Florida. As a result of further review of the latitude/longitude coordinates for the Avon Park Air Force Range restricted areas, the Aeronautical Navigation Services Office (formerly the National Aeronautical Charting Office) determined that a minor refinement was needed for two points in several restricted area descriptions. The correction adjusts the longitude coordinate by six seconds for one point and by two seconds for the second point. Specifically, the longitude point in lat. 27°32′31″ N., long. 81°07′ 29″ W., is corrected to read “long. 81°07′23″ W.″, and; the longitude point in lat. 27°29′31″ N., long. 81°05′29″ W., is corrected to read “long. 81°05′27″ W”

List of Subjects in 14 CFR Part 73

Airspace, Prohibited Areas, Restricted Areas.

Correction to Final Rule

Accordingly, pursuant to the authority delegated to me, the legal descriptions of R-2901B, R-2901J, R-2901K, R-2901L, and R-2901N, as published in the Federal Register on May 24, 2010 (75 FR 28752), Airspace Docket 06-ASO-18, and incorporated by reference in 14 CFR part 73, is corrected as follows:

§ 73.29 [Amended]

On page 28755, column 2, correct two coordinates for restricted areas R-2901B and R-2910J; and on page 28756, columns 1 and 2, correct two coordinates for restricted areas R-2901K, R-2901L and R-2901N, Avon Park, FL, to read as follows:

* * * * *

R-2901B Avon Park, FL [Corrected]

By removing lat. 27°32′31″ N., long. 81°07′29″ W., and substituting lat. 27°32′21″ N., long. 81°07′23″ W.; and by removing lat. 27°29′31″ N., long. 81°05′29″ W., and substituting lat. 27°29′31″ N., long. 81°05′27″ W.

R-2901J Avon Park, FL [Corrected]

By removing lat. 27°32′31″ N., long. 81°07′29″ W., and substituting lat. 27°32′21″ N., long. 81°07′23″ W.; and by removing lat. 27°29′31″ N., long. 81°05′29″ W., and substituting lat. 27°29′31″ N., long. 81°05′27″ W.

R-2901K Avon Park, FL [Corrected]

By removing lat. 27°32′31″ N., long. 81°07′29″ W., and substituting lat. 27°32′21″ N., long. 81°07′23″ W.; and by removing lat. 27°29′31″ N., long. 81°05′29″ W., and substituting lat. 27°29′31″ N., long. 81°05′27″ W.

R-2901L Avon Park, FL [Corrected]

By removing lat. 27°32′31″ N., long. 81°07′29″ W., and substituting lat. 27°32′21″ N., long. 81°07′23″ W.; and by removing lat. 27°29′31″ N., long. 81°05′29″ W., and substituting lat. 27°29′31″ N., long. 81°05′27″ W.

R-2901N Avon Park, FL [Corrected]

By removing lat. 27°32′31″ N., long. 81°07′29″ W., and substituting lat. 27°32′21″ N., long. 81°07′23″ W.; and by removing lat. 27°29′31″ N., long. 81°05′29″ W., and substituting lat. 27°29′31″ N., long. 81°05′27″ W.

* * * * *

Issued in Washington, DC, on July 13, 2010.
Edith V. Parish,
Manager, Airspace and Rules Group.

[FR Doc. 2010-17945 Filed 7-23-10; 8:45 am]

BILLING CODE P